DEPARTMENT OF THE INTERIOR

Bureau of Indian Affairs

Privacy Act of 1974, as Amended; Amendment of an Existing System of Records

AGENCY: Bureau of Indian Affairs, Interior.

ACTION: Proposed amendment of an existing system of records.

SUMMARY: The Department of the Interior (DOI), Bureau of Indian Affairs (BIA) is issuing public notice, pursuant to the Privacy Act of 1974 (5 U.S.C. 552a), of its intent to amend its existing Privacy Act system of records notice entitled Interior, BIA-07, “Tribal Rolls,” published at 48 FR 41098 (September 13, 1983).

DATES: Comments must be received by August 25, 2008.

ADDRESSES: Any persons interested in commenting on this proposed amendment may do so by submitting comments in writing to the Privacy Act Officer, Bureau of Indian Affairs, 625 Herndon Parkway, Herndon, VA 20170, or by e-mail to Joan.Tyler@bia.gov.

FOR FURTHER INFORMATION CONTACT: Dolores Ayotte, Acting Superintendent, Alaska Region, West Central Alaska Agency, Bureau of Indian Affairs, Department of the Interior, 3601 C Street, Suite 1100, Anchorage, AK 99503, or by e-mail to Delores.Ayotte@bia.gov.

SUPPLEMENTARY INFORMATION: This notice is published pursuant to the Privacy Act of 1974 (5 U.S.C. 552a(e)(4)) and is in exercise of authority delegated by the Secretary of the Interior to the Assistant Secretary—Indian Affairs in 209 DM 8.1. This notice amends the Privacy Act System of Records entitled Interior, BIA-07, “Tribal Rolls.”

The purpose of this amendment is to: (1) Change the name of the system to Interior, BIA-07, “Progeny;” (2) update the information on the location of the records and the technology used to store and retrieve records; (3) more clearly state the information that is included in the system of records; (4) more clearly state the current routine uses of the records by organizations and individuals outside of the Department of the Interior; and (5) expand the routine uses of such information to include using these records as a basis for the creation of the Certificate of Degree of Indian Blood (CDIB) for the Alaska Native Claims Settlement Act (ANCSA) enrollees and descendants. A copy of the notice, with changes incorporated, is attached.

Dated: July 9, 2008.
George T. Skibine,
Acting Deputy Assistant Secretary, Policy and Economic Development.

SYSTEM NAME:

Progeny—Interior, BIA-07.

SYSTEM LOCATION:

(1) BIA Albuquerque Data Center, 1011 Indian School Rd. NW., Albuquerque, NM 87104.

(2) Other BIA Area, Agency, and Field Offices. (For a listing of specific locations, contact the System Manager.)

CATEGORIES OF INDIVIDUALS COVERED BY THE SYSTEM:

Alaska Native Individuals originally enrolled through the Alaska Native Claims Settlement Act and their descendants.

CATEGORIES OF RECORDS IN THE SYSTEM:

• Tribal member information, including name, social security number, birth date, address, phone number, blood quantum, names of biological parents, and grandparents, and certificate of Degree of Indian Blood (CDIB);

• Tribal affiliation information, including Tribal Enrollment Number, Tribal member profile report, and Tribal composition;

• Tribal member genealogy information, including a family tree report, birth, marriage, and death notices; and

• Records of actions taken, including judgment distributions, per capita payments, shares of stocks, ownership, and census data taken using the rolls as a base.

AUTHORITY FOR MAINTENANCE OF THE SYSTEM:

This system of records is maintained under the authority of 25 U.S.C. 163; 25 U.S.C. 480.

ROUTINE USES OF RECORDS MAINTAINED IN THE SYSTEM, INCLUDING CATEGORIES OF USERS AND THE PURPOSES OF SUCH USES:

The primary use of the records is to support DOI's statutory duty to create a Secretary's Roll of Tribal group members. Records are used to determine eligibility of individuals to participate in or enjoy benefits from an interest in a Tribal group, and to provide lists of approved enrollees used to distribute funds or income, or as a base to gather census or ownership data for planning purposes.

Disclosures outside of the Department of the Interior may be made:

(1) To the Tribe, Band, Pueblo, or corporation of which the individual to which the record pertains is a member or stockholder.

(2) (a) To any of the following entities or individuals, when the circumstances set forth in paragraph (b) are met:

(i) The Department of Justice (DOJ);

(ii) A court, adjudicative or other administrative body;

(iii) A party in litigation before a court or adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purposes for which the records were compiled.

(3) To a congressional office in response to a written inquiry that an individual covered by the system, or the heir of such individual if covered individual is deceased, has made to the office.

(4) To any criminal, civil, or regulatory law enforcement authority (whether Federal, State, territorial, local, tribal, or foreign) when a record, either alone or in conjunction with other information, indicates a violation or potential violation of law—criminal, civil, or regulatory in nature, and the disclosure is compatible with the purpose for which the records were compiled.

(5) To an official of another Federal agency to provide information needed in the performance of official duties related to reconciling or reconstructing data files or to enable that agency to respond to an inquiry by the individual to whom the record pertains.

(6) To Federal, State, territorial, local, tribal, or foreign agencies that have requested information relevant or necessary to the hiring, firing, or retention of an employee or contractor, or the issuance of a security clearance, license, contract, grant, or other benefit, when the disclosure is compatible with the purpose for which the records were compiled.

(7) To representatives of the National Archives and Records Administration to conduct records management inspections under the authority of 44 U.S.C. 2904 and 2906.

(8) To State and local governments and tribal organizations to provide information needed in response to court order and/or discovery purposes related to litigation, when the disclosure is compatible with the purpose for which the records were compiled.

(9) To an expert, consultant, or contractor (including employees of the contractor) of DOI that performs services requiring access to these records on DOI's behalf to carry out the purposes of the system.

(10) The appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made of such agencies, entities and persons who are reasonably necessary to assist in connection with the Department's efforts to respond to the suspected or confirmed compromise and prevent, minimize, or remedy such harm.

(11) To the Office of Management and Budget during the coordination and clearance process in connection with legislative affairs as mandated by OMB Circular A-19.

(12) To the Department of the Treasury to recover debts owed to the United States.

(13) To the news media when the disclosure is compatible with the purpose for which the records were compiled.

DISCLOSURES TO CONSUMER REPORTING AGENCIES:

Pursuant to 5 U.S.C. 552a(b)(12), records can be disclosed to consumer reporting agencies as they are defined by the Fair Credit Reporting Act (15 U.S.C. 1681a(f)) or the Federal Claims Collection Act of 1966 (31 U.S.C. 3701(a)(3)).

POLICIES AND PRACTICES FOR STORING, RETRIEVING, ACCESSING, RETAINING, AND DISPOSING OF RECORDS IN THE SYSTEM:

STORAGE:

Records are stored in both paper and electronic form.

RETRIEVABILITY:

Manual records are indexed by name. Electronic records can be retrieved by name, social security number, birth date, enrollment number, phone number, or address.

SAFEGUARDS:

Progeny is maintained with controls meeting safeguard requirements identified in Departmental Privacy Act Regulations (43 CFR 2.51) for manual and automated records. Access to records is limited to authorized personnel whose official duties require such access; agency officials have access only to records pertaining to their agencies.

(1) Physical Security: Paper or electronic format records are maintained in locked file cabinets and/or in secured rooms.

(2) Technical Security: Electronic records are maintained in conformity with Office of Management and Budget and Departmental guidelines reflecting the implementation of the Federal Information Security Management Act. Electronic data are protected through user identification, passwords, database permissions, and software controls. These security measures establish different degrees of access for different types of users. An audit trail is maintained and reviewed periodically to identify unauthorized access. A Privacy Impact Assessment was completed for Progeny and is updated at least annually to ensure that Privacy Act requirements and personally identifiable information safeguard requirements are met.

(3) Administrative Security: All DOI and contractor employees with access to Progeny are required to complete Privacy Act, Records Management Act, and Security Training.

RETENTION AND DISPOSAL:

Records relating to individuals covered by this system are retained in accordance with the 16 Bureau of Indian Affairs Manual (BIAM), as approved by the National Archives and Records Administration, and are scheduled for permanent retention.

SYSTEM MANAGER AND ADDRESS:

Deputy Bureau Director, Office of Trust Services, 1849 C Street, NW., Washington, DC, 20240.

NOTIFICATION PROCEDURES:

Inquiries regarding the existence of records should be addressed to the System Manager. The request must be in writing, signed by the requester, and meet the requirements of 43 CFR 2.60.

RECORD ACCESS PROCEDURES:

A request for access may be addressed to the System Manager. The request must be in writing, signed by the requester, and meet the requirements of 43 CFR 2.63.

CONTESTING RECORD PROCEDURES:

A petition for amendment should be addressed to the System Manager. The request must be in writing, signed by the requester, and meet the content requirements of 43 CFR 2.71.

RECORD SOURCE CATEGORIES:

Source information is received from individuals on whom the records are maintained, or from Federal and Tribal Government enrollment records.

EXEMPTIONS CLAIMED FOR THE SYSTEM:

None.

[FR Doc. E8-16100 Filed 7-14-08; 8:45 am]

BILLING CODE 4312-RY-P